DEPARTMENT OF TRANSPORTATION

Corridors of the Future Program

AGENCY: Department of Transportation (DOT).

ACTION: Notice; announcement of proposals selected to advance to Phase 2 of the Corridors of the Future Program.

SUMMARY: The U.S. Department of Transportation (DOT) announces the selection of the Corridors of the Future (CFP) Phase 1 proposals to be advanced to Phase 2 of the CFP. Through the CFP selection process, the DOT will select up to 5 nationally significant transportation corridors in need of investment for the purpose of reducing congestion, increasing freight system reliability, and enhancing the quality of life for U.S. citizens. The DOT has identified 8 nationally significant corridors comprised of 14 CFP proposals that have the potential to alleviate congestion and provide national and regional long-term benefits to further economic growth and international trade within the corridors and across the Nation. Several of these proposals are multimodal and multi-jurisdictional in nature.

DATES: The proposals selected for Phase 2 of the CFP are invited to submit a Corridor Application. Applications must be received on or before May 25, 2007.

ADDRESSES: Proposals selected for Phase 2 should submit their Corridor Application to Mr. James D. Ray, Chief Counsel, Federal Highway Administration, 400 Seventh Street, SW., Room 4213, Washington, DC 20590, or electronically to corridorsofthefuture@dot.gov.

FOR FURTHER INFORMATION CONTACT: Mr. Michael W. Harkins, Attorney-Advisor, (202) 366-4928 (michael.harkins@dot.gov), or Ms. Alla C. Shaw, Attorney-Advisor, (202) 366-1042 (alla.shaw@dot.gov), Federal Highway Administration, Office of the Chief Counsel, 400 Seventh Street, SW., Room 4230, Washington, DC 20590. Office hours are from 7:45 a.m. to 4:15 p.m., e.t., Monday through Friday, except Federal holidays.

SUPPLEMENTARY INFORMATION: Electronic Access: An electronic copy of this document may also be downloaded from the Office of the Federal Register's home page at: http://www.archives.gov and the Government Printing Office's Web page at: http://www.access.gpo.gov/nara.

Background: On September 5, 2006, the DOT published a notice in the Federal Register seeking applications from States, or private sector entities, interested in forming coalitions to build and manage corridors in a way that alleviates congestion on our highways, rail, or waterways (71 FR 52364). The notice outlined a two-phase submission and selection process. For Phase 1, interested parties were asked to submit proposals containing general information about the proposed corridor projects. The DOT received 38 proposals during Phase I and evaluated each proposal against the primary objectives of the CFP. The DOT established a team comprised of representatives from DOT's surface transportation administrations with expertise in the areas of finance, environment and planning, infrastructure, and operations to review the proposals. Proposals were selected to move forward to Phase 2 based on each Applicant's responsiveness to the information requested for Phase 1 and the ability of the proposed project to achieve the primary goals of the CFP, including the development of corridors with national and regional significance in the movement of freight and people, congestion reduction, and the use of innovative financing.

Based on the recommendations of the Phase 1 review team, the DOT has identified 8 major corridors comprised of 14 CFP proposals that have the potential to achieve the goals of the CFP.

The 8 corridors and 14 proposals selected for Phase 2 of the CFP are as follows:

1. Interstate 95 (I-95)

A. I-95—Submitted by the Florida, Georgia, South Carolina, North Carolina and Virginia DOTs.

B. I-95—Submitted by the Interstate 95 Corridor Coalition.

C. The Southeast Interstate 95 Corridor—Submitted by CSX Corporation.

2. Interstate 80 (I-80)

A. I-80 Nevada—Submitted by the Regional Transportation Commission, Reno, Nevada on behalf of the I-80 Coalition.

B. I-80 California—Submitted by the California DOT.

3. Interstate 15 (I-15)

A. I-15 Corridor California—Submitted by the California DOT.

B. I-15 Nevada—Submitted by the Nevada DOT.

4. Northern Tier (Interstates 80, 90, and 94)

A. Detroit/Chicago National/International Corridor of Choice (I-94) (National Freight Node and Link)—Submitted by the Michigan DOT.

B. Illiana Expressway and Freight Corridor (National Freight Node)—Submitted by the Indiana and Illinois DOTs, Northwestern Indiana Regional Planning Commission, and Chicago Metropolitan Agency for Planning.

5. Interstate 5 (I-5)

A. I-5 in the Portland, Oregon and Vancouver, Washington metropolitan area—Submitted by the Oregon and Washington State DOTs.

B. I-5 Corridor California—Submitted by the California DOT.

6. Interstate 70 (I-70) Dedicated Truck Lanes Corridor Missouri to Ohio—Submitted by the Indiana DOT in partnership with the Missouri, Illinois, and Ohio DOTs.

7. Interstate 69 (I-69)—Submitted by Arkansas State Highway and Transportation Department on behalf of the I-69 Corridor Coalition.

8. Interstate 10 (I-10)—Submitted by Wilbur Smith Associates.

The proposals selected for Phase 2 of the CFP are invited to submit a Corridor Application as described in the September 5, 2006, notice. Corridor Applications must be received on or before May 25, 2007.

Authority: 49 U.S.C. 101.

Issued on: February 1, 2007.
Maria Cino,
Deputy Secretary.

[FR Doc. E7-1979 Filed 2-6-07; 8:45 am]

BILLING CODE 4910-22-P